ENVIRONMENTAL PROTECTION AGENCY

[EPA-R05-OAR-2009-0221, EPA-R05-OAR-2009-0220; FRL-8907-2]

Adequacy Status of the Cleveland/Akron, Ohio and the Columbus, Ohio Submitted 8-Hour Ozone Redesignation and Maintenance Plans for Transportation Conformity Purposes

AGENCY: Environmental Protection Agency (EPA).

ACTION: Notice of adequacy.

SUMMARY: In this notice, EPA is notifying the public that we have found that the motor vehicle emissions budgets (MVEBs) for volatile organic compounds (VOC) and oxides of nitrogen (NOX) in the Cleveland/Akron, Ohio area and the Columbus, Ohio area are adequate for use in transportation conformity determinations. Ohio submitted the Cleveland/Akron area budgets with an 8-hour ozone redesignation and maintenance plan on March 17, 2009. Ohio submitted the Columbus area budgets with an 8-hour ozone redesignation and maintenance plan on March 17, 2009. As a result of our finding, the Cleveland/Akron, Ohio area and the Columbus, Ohio area must use the MVEBs from the submitted 8-hour ozone maintenance plan for future transportation conformity determinations.

DATES: This finding is effective June 4, 2009.

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, Maietta.anthony@epa.gov.

SUPPLEMENTARY INFORMATION: Throughout this document, whenever “we,” “us” or “our” is used, we mean EPA.

Background

Today's notice is simply an announcement of a finding that we have already made. On March 30, 2009, EPA Region 5 sent a letter to the Ohio Environmental Protection Agency stating that the 2010 and 2020 MVEBs for the Cleveland/Akron area, and also for the Columbus area, which were submitted with the state's 8-hour ozone redesignation and maintenance plan, are adequate. Receipt of these MVEBs was announced on EPA's transportation conformity website, and no comments were submitted. The finding is available at EPA's conformity Web site: http://www.epa.gov/otaq/stateresources/transconf/adequacy.htm.

The adequate 2010 and 2020 MVEBs, in tons per day (tpd), for VOC and NOX for the Cleveland/Akron area are as follows:

| 2012 MVEB (tpd) | 2020 MVEB (tpd)
VOC | 46.64 | 31.48
NOX | 95.89 | 42.75

The adequate 2010 and 2020 MVEBs, in tons per day (tpd), for VOC and NOX for the Columbus area are as follows:

| 2012 MVEB (tpd) | 2020 MVEB (tpd)
VOC | 54.86 | 36.60
NOX | 91.64 | 46.61

Please note that the March 30, 2009, letter to the state had the budgets in the wrong columns and this has been corrected in this notice.

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's motor vehicle emission budgets are adequate for transportation conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's transportation conformity web site: http://www.epa.gov/otaq/stateresources/transconf/adequacy.htm.

Authority: 42 U.S.C. 7401-7671q.

Dated: May 7, 2009.
Walter W. Kovalick Jr,
Acting Regional Administrator, Region 5.

[FR Doc. E9-11639 Filed 5-19-09; 8:45 am]

BILLING CODE 6560-50-P